SUSQUEHANNA RIVER BASIN COMMISSION

Commission Meeting

AGENCY: Susquehanna River Basin Commission.

ACTION: Notice.

SUMMARY: The Susquehanna River Basin Commission will hold its regular business meeting on June 16, 2017, in Entriken, Pennsylvania. Details concerning the matters to be addressed at the business meeting are contained in the SUPPLEMENTARY INFORMATION section of this notice.

DATES: The meeting will be held on Friday, June 16, 2017, at 9 a.m.

ADDRESSES: The meeting will be held at the Lake Raystown Resort, River Birch Ballroom, 3101 Chipmunk Crossing, Entriken, PA 16638.

FOR FURTHER INFORMATION CONTACT: Jason E. Oyler, General Counsel, 717-238-0423, ext. 1312.

SUPPLEMENTARY INFORMATION: The business meeting will include actions or presentations on the following items: (1) Informational presentation of interest to the Juniata Subbasin area; (2) election of officers for FY 2018; (3) the proposed Water Resources Program for fiscal years 2018 and 2019; (4) amendment of the Comprehensive Plan for the Water Resources of the Susquehanna River Basin; (5) the proposed FY2018 Regulatory Program Fee Schedule; (6) adoption of a preliminary FY 2019 budget; (7) treasury management services agreement with First National Bank; (8) ratification/approval of contracts/grants; (9) rulemaking action to amend Commission regulations to clarify application requirements and standards for review of projects, amend the rules dealing with the mitigation of consumptive uses, add a subpart to provide for registration of grandfathered projects, and revise requirements dealing with hearings and enforcement actions; (10) report on delegated settlements; (11) EOG Resources Inc. request for waiver of application required by 18 CFR 806.3 and 806.4; (12) Middletown Borough request for waiver of application required by 18 CFR 806.6(a)(5) and (b); and (13) Regulatory Program projects and requests for extension of emergency certificates, including for Susquehanna Nuclear, LLC.

Projects, the fee schedule, the request of waiver by EOG Resources Inc., and amendments to the Comprehensive Plan listed for Commission action are those that were the subject of a public hearing conducted by the Commission on May 11, 2017, and identified in the notice for such hearing, which was published in 82 FR 17497, April 11, 2017. The rulemaking was published in 81 FR 64814, September 21, 2016, and subject to four public hearings on November 3, 2016; November 9, 2016; November 10, 2016; and December 8, 2016, and a public comment period that closed on January 30, 2017.

The public is invited to attend the Commission's business meeting. Comments on the Regulatory Program projects, the fee schedule, the request for waiver by EOG Resources Inc., and amendments to the Comprehensive Plan were subject to a deadline of May 22, 2017. Written comments pertaining to other items on the agenda at the business meeting may be mailed to the Susquehanna River Basin Commission, 4423 North Front Street, Harrisburg, Pennsylvania 17110-1788, or submitted electronically through http://www.srbc.net/pubinfo/publicparticipation.htm. Such comments are due to the Commission on or before June 9, 2017. Comments will not be accepted at the business meeting noticed herein.

Authority: Pub. L. 91-575, 84 Stat. 1509 et seq., 18 CFR parts 806, 807, and 808.

Dated: May 11, 2017.
Stephanie L. Richardson,
Secretary to the Commission.

[FR Doc. 2017-09918 Filed 5-16-17; 8:45 am]

BILLING CODE 7040-01-P